SECURITIES AND EXCHANGE COMMISSION

Issuer Delisting; Notice of Application of Banco Nacional De Comercio Exterior, S.N.C. to Withdraw its 7¼% Global Notes (due 2004) From Listing and Registration on the New York Stock Exchange, Inc. File No. 1-11744

March 21, 2003.

Banco Nacional De Comercio Exterior, S.N.C, a United Mexican States corporation (“Issuer”), has filed an application with the Securities and Exchange Commission (“Commission”), pursuant to section 12(d) of the Securities Exchange Act of 1934 (“Act”) ¹ and Rule 12d2-2(d) thereunder,² to withdraw its 7¼% Global Notes (due 2004) (“Security”), from listing and registration on the New York Stock Exchange, Inc. (“NYSE” or “Exchange”).

¹ 15 U.S.C. 78l(d).

² 17 CFR 240.12d2-2(d).

On January 29, 2003, the Board of Directors of the Issuer approved a resolution to withdraw the Issuer's Security from listing on the NYSE. In making its decision to withdraw the Security from the Exchange, the Issuer states that: (i) The Security is not widely held and has a low trading volume; (ii) the Issuer is subject to administrative costs resulting solely from the listing of the Security, including those related to maintaining the listing of the Security on the NYSE and complying with U.S. securities laws reporting requirements. Given the low trading volume of the Security, the Issuer believes that such costs are not justified. The Security is the only outstanding security the Issuer has listed on a national securities exchange.

The Issuer stated in its application that it has met the requirements of the NYSE rules governing an issuer's voluntary withdrawal of a security from listing and registration. The Issuer's application relates solely to the Security's withdrawal from listing on the NYSE and from registration under section 12(b) of the Act ³ and shall not affect its obligation to be registered under section 12(g) of the Act.⁴

³ 15 U.S.C. 78l(b).

⁴ 15 U.S.C. 78l(g).

Any interested person may, on or before April 16, 2003, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

For the Commission, by the Division of Market Regulation, pursuant to delegated authority. ⁵
⁵ 17 CFR 200.30-3(a)(1).
Jonathan G. Katz,
Secretary.

[FR Doc. 03-7342 Filed 3-26-03; 8:45 am]

BILLING CODE 8010-01-P